DEPARTMENT OF AGRICULTURE

Agricultural Marketing Service

[Document Number AMS-NOP-14-0063; NOP-14-07]

Notice of Meeting of the National Organic Standards Board

AGENCY: Agricultural Marketing Service, USDA.

ACTION: Notice of meeting.

SUMMARY: In accordance with the Federal Advisory Committee Act, as amended, (5 U.S.C. App.), the Agricultural Marketing Service (AMS) is announcing an upcoming meeting of the National Organic Standards Board (NOSB). Written public comments are invited in advance of the meeting, and the meeting will include scheduled time for oral comments from the public.

DATES: The meeting will be held October 28-30, 2014, from 8:30 a.m. to 6 p.m. each day. The deadline to submit written public comments and sign up for oral public comments is Tuesday, October 7, 2014.

ADDRESSES: The meeting will take place at the Galt House Hotel, 140 North Fourth St., Louisville, KY 40202, (502) 589-5200. Information and instructions pertaining to the meeting are posted at the following web address: http://www.ams.usda.gov/NOSBMeetings.

FOR FURTHER INFORMATION CONTACT: For printed materials or additional information, write to Ms. Michelle Arsenault, Special Assistant, National Organic Standards Board, USDA-AMS-NOP, 1400 Independence Ave. SW., Room 2648-So., Mail Stop 0268, Washington, DC 20250-0268; Phone: (202) 720-3252; Email: nosb@ams.usda.gov.

SUPPLEMENTARY INFORMATION: The NOSB makes recommendations about whether a substance should be allowed or prohibited in organic production and/or handling, assists in the development of standards for organic production, and advises the Secretary on other aspects of the implementation of the Organic Foods Production Act (7 U.S.C. 6501-6522). The NOSB currently has six subcommittees working on various aspects of the Organic Program. The subcommittees are: Compliance, Accreditation, and Certification; Crops; Handling; Livestock; Materials/Genetically Modified Organisms; and Policy Development. The primary purpose of NOSB meetings is to provide an opportunity for the organic community to give input on proposed NOSB recommendations and discussion items. The meetings also allow the NOSB to receive updates from the USDA National Organic Program (NOP) on issues pertaining to organic agriculture. The meeting will be open to the public. The meeting agenda, NOSB proposals and discussion documents, instructions for submitting and viewing public comments, and instructions for requesting a time slot for oral comments are available on the NOP Web site at http://www.ams.usda.gov/NOSBMeetings. The discussion documents and proposals encompass a wide range of topics, including: substances petitioned to the National List of Allowed and Prohibited Substances (National List), substances on the National List that require NOSB review before their 2015 and 2016 sunset dates, updates from working groups on technical issues, and amendments to guidance on organic policies. This meeting will serve as the NOSB's review of substances that have a sunset date in 2015. This review will fulfill the NOSB's responsibilities described in the Organic Foods Production Act's sunset provision (section 2118(e)).

Public Comments: Written public comments will be accepted through Tuesday, October 7, 2014 via www.regulations.gov. Comments received after that date may not be reviewed by the NOSB before the meeting. The NOP strongly prefers comments to be submitted electronically; however, written comments may also be submitted by Tuesday, October 7, 2014 via mail to Ms. Michelle Arsenault, Special Assistant, National Organic Standards Board, USDA-AMS-NOP, 1400 Independence Ave. SW., Room 2648-S, Mail Stop 0268, Washington, DC 20250-0268. Instructions for viewing all comments are posted at www.regulations.gov and http://www.ams.usda.gov/NOSBMeetings.

The NOSB has scheduled time for oral comments from the public, and will accommodate as many individuals and organizations as possible during these sessions. Individuals and organizations wishing to make oral presentations at the meeting must pre-register to request one time slot by visiting http://www.ams.usda.gov/NOSBMeetings or by calling (202) 720-0081. The deadline to sign up for an oral public comment slot is Tuesday, October 7, 2014. All persons making oral presentations should also provide their comments in advance through the written comment process. Written submissions may contain supplemental information other than that presented in the oral presentation. Persons submitting written comments at the meeting are asked to provide two hard copies.

Meeting Accommodations: The meeting hotel is ADA Compliant, and the USDA provides reasonable accommodation to individuals with disabilities where appropriate. If you need a reasonable accommodation to participate in this public meeting, please notify Michelle Arsenault at michelle.arsenault@ams.usda.gov or (202) 720-0081. Determinations for reasonable accommodation will be made on a case-by-case basis.

Dated: August 27, 2014.
Rex A. Barnes,
Associate Administrator, Agricultural Marketing Service.

[FR Doc. 2014-21292 Filed 9-5-14; 8:45 am]

BILLING CODE 3410-02-P